DEPARTMENT OF DEFENSE

Office of the Secretary

[Docket ID: DoD-2014-OS-0022]

Privacy Act of 1974; System of Records

AGENCY: Office of the Secretary of Defense/Joint Staff, DoD.

ACTION: Notice to amend a system of records.

SUMMARY: The Office of the Secretary of Defense is amending a system of records notice in its existing inventory of record systems subject to the Privacy Act of 1974, as amended. The system notice is entitled DWHS D03, Washington Headquarters Services (WHS) Enterprise Safety Applications Management System (ESAMS).

DATES: Comments will be accepted on or before March 17, 2014. This proposed action will be effective the day following the end of the comment period unless comments are received which result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense systems of records notices subject to the Privacy Act of 1974 (5 U.S.C. 552a), as amended, have been published in the Federal Register and are available from the address in FOR FURTHER INFORMATION CONTACT or at http://dpclo.defense.gov/privacy/SORNs/component/osd/index.html. The Office of the Secretary of Defense proposes to amend one system in records notice in its inventory of record systems subject to the Privacy Act of 1974 (5 U.S.C. 552a), as amended. The proposed amendment is not within the purview of subsection (r) of the Privacy Act of 1974 (5 U.S.C. 552a), as amended, which requires the submission of a new or altered system report.

Dated: February 10, 2014.
Aaron Siegel,
Alternate OSD Federal Register Liaison Officer, Department of Defense.

DWHS D03

System name:

Washington Headquarters Services (WHS) Enterprise Safety Applications Management System (ESAMS) (December 14, 2010, 75 FR 77849).

Changes:

* * * * *

System name:

CLOSED—Washington Headquarters Services (WHS) Enterprise Safety Applications Management System (ESAMS).

* * * * *

Categories of individuals covered by the system:

Delete entry and replace with “This is a closed system—no new records may be added. DoD Military and civilian personnel who were employed through Washington Headquarters Services (WHS) or one of the WHS-Serviced Organizations (Office of the Secretary of Defense, Joint Chiefs of Staff, Defense Advanced Research Projects Agency, Defense Threat Reduction Agency, Missile Defense Organization, and the Pentagon Force Protection Agency) who were the subject of an accident investigation or report or required duty physicals or longitudinal monitoring and assessment between July 2011 and August 2013.”

* * * * *

System Manager(s) and address:

Delete entry and replace with “Chief, Occupational Safety and Health Branch, Washington Headquarters Services, 1155 Defense Pentagon, Washington, DC 20301-1155.”

Notification Procedures:

Delete entry and replace with “Individuals seeking to determine whether information about themselves contained in this system of records should address written inquiries to the Chief, Occupational Safety and Health Branch, Washington Headquarters Services, 1155 Defense Pentagon, Washington, DC 20301-1155. Signed, written requests must include the individual's full name, Social Security Number (SSN), and current mailing address.”

* * * * *

[FR Doc. 2014-03166 Filed 2-12-14; 8:45 am]

BILLING CODE 5001-06-P